DEPARTMENT OF AGRICULTURE

Submission for OMB Review; Comment Request

September 27, 2017.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by November 1, 2017. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Report Forms under a California Federal Milk Marketing Order (from Milk Handlers and Milk Marketing Cooperatives); Referendum Procedures.

OMB Control Number: 0581-New.

Summary of Collection: The Agricultural Marketing Agreement Act of 1937 (AMAA) as amended, (7 U.S.C. 601-674, and 7253), authorizes the Federal Milk Marketing Order (FMMO) Program. The authority for conducting a producer referendum to ascertain whether the issuance of an order is approved or favored is outlined in 7 U.S.C. 608c(9). The California dairy industry requested promulgation of a FMMO for California similar, to the 10 existing FMMO's throughout the United States. The proposed FMMO incorporates the entire state of California and would adopt the same dairy product classification and pricing provisions used throughout the current FMMO system. AMS will issue a Final Decision on promulgating a California FMMO.

Need and Use of the Information: A referendum will be conducted and the information collected would be used by the Agricultural Marketing Service Dairy Program to determine whether producers and/or cooperative associations support implementation of the California FMMO. If the collection is not conducted, producers and/or cooperative associations would be unable to vote on the California FMMO. The referendum is necessary to determine whether the California FMMO should be established.

Description of Respondents: Business or other for-profit.

Number of Respondents: 1,453.

Frequency of Responses: Reporting: On occasion.

Total Burden Hours: 363.

Charlene Parker,
Departmental Information Collection Clearance Officer.

[FR Doc. 2017-21023 Filed 9-29-17; 8:45 am]

BILLING CODE 3410-02-P